DEPARTMENT OF COMMERCE

National Oceanic and Atmospheric Administration

RIN 0648-XX85

Endangered and Threatened Species; Recovery Plans

AGENCY: National Marine Fisheries Service, National Oceanic and Atmospheric Administration, Commerce.

ACTION: Notice of Availability; recovery plan for the fin whale.

SUMMARY: The National Marine Fisheries Service (NMFS) announces the adoption of an Endangered Species Act (ESA) Recovery Plan for the Fin whale (Balaenoptera physalus). The Recovery Plan contains revisions and additions in consideration of public comments received on the proposed draft Recovery Plan for the fin whale.

ADDRESSES: Additional information about the Recovery Plans may be obtained by writing to Monica DeAngelis, National Marine Fisheries Service, Southwest Regional Office, Protected Resources Division, 501 W. Ocean Blvd., Suite 4200, Long Beach, CA 90802 or send an electronic message to Monica.DeAngelis@noaa.gov.

Electronic copies of the Recovery Plan and a summary of NMFS' response to public comments on the Recovery Plan are available online at the NMFS Office of Protected Resources website: www.nmfs.noaa.gov/pr/species/mammals/cetaceans/finwhale.htm.

FOR FURTHER INFORMATION CONTACT: Monica DeAngelis (562) 980-3232, e-mail Monica.DeAngelis@noaa.gov.

SUPPLEMENTARY INFORMATION:

Background

Recovery plans describe actions considered necessary for the conservation and recovery of species listed under the Endangered Species Act of 1973 (ESA), as amended (16 U.S.C. 1531 et seq.). The ESA requires that recovery plans incorporate (1) objective, measurable criteria that, when met, would result in a determination that the species is no longer threatened or endangered; (2) site-specific management actions necessary to achieve the plan's goals; and (3) estimates of the time required and costs to implement recovery actions. The ESA requires the development of recovery plans for listed species unless such a plan would not promote the recovery of a particular species. NMFS' goal is to restore endangered fin whale (Balaenoptera physalus) populations to the point where they are again secure, self-sustaining members of their ecosystems and no longer need the protections of the ESA.

The fin whale was listed as an endangered species under the ESA on December 2, 1970 (35 FR 18319). Fin whales have a global distribution and can be found in the Atlantic and Pacific Oceans and the Southern Hemisphere. Although most populations were depleted by modern whaling in the mid-twentieth century, there are still tens of thousands of fin whales worldwide. Currently, the population structure of fin whales has not been adequately defined. Most models have assigned arbitrary boundaries, often based on patterns of historic whaling activity and catch reports, rather than on biological evidence. Populations are often divided on an ocean basin level. Since the Southern Ocean often refers only to waters surrounding Antarctica and fin whales occur not only in those waters but also in temperate waters, we refer to the geographic area for the fin whale subspecies (Balaena physalus quoyi) as the Southern Hemisphere. Therefore, the Recovery Plan is organized, for convenience, by ocean basin and discussed in three sections: those fin whales in the North Atlantic Ocean, those in the North Pacific Ocean and its adjoining seas and gulfs, and those in the Southern Hemisphere, referring particularly to areas near Antarctica. There is a need for an improved understanding of the genetic differences among and between populations, in order to determine distinct population units. Although there is new information, existing knowledge of population structure remains poor. New information is currently insufficient to identify units that are both discrete and significant to the survival of the species.

NMFS released the draft Recovery Plan and requested comments from the public on July 6, 2006 (71 FR 38385). A summary of comments and NMFS responses to comments are available electronically (see ADDRESSES). Concurrent with the public comment period, NMFS requested comments from three independent peer-reviewers. The peer-review comment period was extended for another 60 days after the public comment period was closed to allow peer-reviewers more time.

The final Recovery Plan contains: (1) a comprehensive review of fin whale ecology, (2) a threats assessment, (3) biological and recovery criteria for downlisting and delisting, (4) actions necessary for the recovery of the species, (5) an implementation schedule, and (6) estimates of time and cost to recovery.

The Recovery Plan presents a recovery strategy to address the potential threats based on the best available science and presents guidance for use by agencies and interested parties to assist in the recovery of the fin whale. The threats assessment ranked threats as either having a/an Unknown, Unknown but Potentially High, Low, Medium, or High relative impact to the recovery of fin whales. Ranking assignments were determined by an expert panel with contributions from reviewers. Following are the threat rankings relative to the recovery of the fin whale:

• Anthropogenic noise from ship noise, oil and gas exploration, and military sonar and explosives, and competition for resources were ranked as having an unknown impact

• Ship strikes and loss of prey base due to climate and ecosystem change or shifts in habitat were ranked as unknown but potentially high

• Fishery interactions (gillnet, trawl, pot/trap, purse seine, and longline), anthropogenic noise from coastal development, disturbance from whale watching and other vessels, contaminants and pollutants, disease, injury from marine debris, disturbance due to research, and predation and natural mortality were ranked as having a low impact; and

• Direct harvest was ranked as having a medium impact.

No threats were identified as having a high impact relative to the recovery of the fin whale.

The Recovery Plan identifies nine measures that need to be taken to ensure the recovery of fin whales in the North Atlantic, North Pacific, and Southern Hemisphere. Key elements of the proposed recovery program for this species are (1) coordinate state, Federal, and international actions to implement recovery efforts; (2) determine population discreteness and stock structure; (3) develop and apply methods to estimate population size and monitor trends in abundance; (4) conduct risk analyses; (5) identify and protect habitat important to fin whale survival and recovery; (6) identify causes and minimize human-caused injury and mortality; (7) determine and minimize any detrimental effects of anthropogenic noise in the oceans; (8) maximize efforts to acquire scientific information from dead, stranded, and entangled or entrapped fin whales; and (9) develop a post-delisting monitoring plan.

Criteria for the reclassification of the fin whale are included in the final Recovery Plan. In summary, the fin whale may be reclassified from endangered to threatened when all of the following have been met: (1) given current and projected threats and environmental conditions, the overall fin whale population in each ocean basin in which it occurs (North Atlantic, North Pacific, and Southern Hemisphere) satisfies the risk analysis standard for threatened status (has no more than a 1 percent chance of extinction in 100 years) and at least 500 mature, reproductive individuals remain (consisting of at least 250 mature females and at least 250 mature males). Mature is defined as the number of individuals known, estimated or inferred to be capable of reproduction. Any factors or circumstances that are thought to substantially contribute to a real risk of extinction that cannot be incorporated into a Population Viability Analysis will be carefully considered before downlisting takes place; and (2) none of the known threats to fin whales (summarized in the five listing factors) are known to limit the continued growth of populations. Specifically, the factors in 4(a)(l) of the ESA are being or have been addressed. The population will be considered for delisting if all of the following can be met: (1) given current and projected threats and environmental conditions, the overall fin whale population in each ocean basin in which it occurs (North Atlantic, North Pacific, and Southern Hemisphere) satisfies the risk analysis standard for unlisted status (has less than a 10 percent probability of becoming endangered (has more than a 1 percent chance of extinction in 100 years) in 20 years). Any factors or circumstances that are thought to substantially contribute to a real risk of extinction that cannot be incorporated into a Population Viability Analysis will be carefully considered before delisting takes place, and (2) none of the known threats to fin whales (summarized in the five listing factors) are known to limit the continued growth of populations. Specifically, the factors in 4(a)(l) of the ESA are being or have been addressed.

Time and cost for recovery actions are contained in the Recovery Plan. The recovery program for the fin whale will cost $225.42 million dollars for the first 5 fiscal years and $245.98 million dollars to full recovery, assuming recovery date of 2020 for the North Atlantic and North Pacific Ocean regions and 2030 for the Southern Hemisphere.

In accordance with the 2003 Peer Review Policy as stated in Appendix R of the Interim Endangered and Threatened Species Recovery Planning Guidance, NMFS solicited independent peer-review on the draft Recovery Plan concurrent with the public comment period. Independent peer-reviews were requested from three scientists and managers with expertise in recovery planning, statistical analyses, fisheries, and marine mammals. Many of the recommendations that were made by the reviewers were addressed and provided in detail in the final Recovery Plan. New information, research results, and references that have become available since the draft Recovery Plan was released were also incorporated into the final Recovery Plan.

Conclusion

NMFS revised the final Recovery Plan for the fin whale and evaluated all comments received by the public as well as independent peer-reviewers. NMFS concludes that the Recovery Plan meets the requirements of the ESA.

Authority: 16 U.S.C. 1531 et seq.

Dated: August 2, 2010.
Angela Somma,
Chief, Endangered Species Division, Office of Protected Resources, National Marine Fisheries Service.

[FR Doc. 2010-19475 Filed 8-5-10; 8:45 am]

BILLING CODE 3510-22-S